DEPARTMENT OF TRANSPORTATION

Federal Aviation Administration

14 CFR Part 39

[Docket No. 2000-NM-400-AD; Amendment 39-12691; AD 2002-06-13]

RIN 2120-AA64

Airworthiness Directives; McDonnell Douglas Model MD-90-30 Airplanes

AGENCY: Federal Aviation Administration, DOT.

ACTION: Final rule.

SUMMARY: This amendment adopts a new airworthiness directive (AD) applicable to certain McDonnell Douglas MD-90-30 airplanes. This action requires inspection of the power feeder cables on the left and right side of the aft cargo compartment between certain stations for minimum clearance from the adjacent structure and for the presence of a grommet in the lightening hole through the floor cusp, and corrective actions, if necessary. The actions specified by this AD are intended to detect and correct inadequate clearance of the power feeder cables on the left and right side of the aft cargo compartment, the lack of a grommet in the lightening hole through the floor cusp, and improper installation of the cabin sidewall grill during production. These conditions could lead to chafing of the power feeder cables, resulting in electrical arcing and possibly in a fire in the cargo compartment of the airplane. This action is intended to address the identified unsafe condition.

DATES: Effective May 7, 2002.

The incorporation by reference of certain publications listed in the regulations is approved by the Director of the Federal Register as of May 7, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: George Mabuni, Senior Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: A proposal to amend part 39 of the Federal Aviation Regulations (14 CFR part 39) to include an airworthiness directive (AD) that is applicable to certain McDonnell Douglas MD-90-30 airplanes was published in the Federal Register on January 4, 2002 (67 FR 534). That action proposed to require inspection of the power feeder cables on the left and right sides of the aft cargo compartment between certain stations for minimum clearance from the adjacent structure, and for the presence of a grommet in the lightening hole through the floor cusp, and corrective actions, if necessary.

Comments

Interested persons have been afforded an opportunity to participate in the making of this amendment. No comments were submitted in response to the proposed rule or the FAA's determination of the cost to the public.

Conclusion

The FAA has determined that air safety and the public interest require the adoption of the rule as proposed.

Cost Impact

There are approximately 16 McDonnell Douglas Model MD-90-30 airplanes of the affected design in the worldwide fleet. The FAA estimates that 14 airplanes of U.S. registry will be affected by this AD, that it will take approximately 1 work hour per airplane to accomplish the required inspection, and that the average labor rate is $60 per work hour. Based on these figures, the cost impact of the AD on U.S. operators is estimated to be $840, or $60 per airplane.

The cost impact figure discussed above is based on assumptions that no operator has yet accomplished any of the proposed requirements of this AD action, and that no operator would accomplish those actions in the future if this proposed AD were not adopted. However, the FAA has been advised that manufacturer warranty remedies are available for labor costs associated with accomplishing the actions required by this proposed AD. Therefore, the future economic cost impact of this rule on U.S. operators may be less than the cost impact figure indicated above. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-06-13 McDonnell Douglas: Amendment 39-12691. Docket 2000-NM-400-AD.

Applicability: Model MD-90-30 airplanes, as listed in McDonnell Douglas Alert Service Bulletin MD90-24A025, Revision 01, dated January 11, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct inadequate clearance of the power feeder cables on the left and right side of the aft cargo compartment, the lack of a grommet in the lightening hole through the floor cusp, and improper installation of the cabin sidewall grill, which could lead to chafing of the power feeder cables, resulting in electrical arcing and possibly in a fire in the cargo compartment of the airplane, accomplish the following:

Inspection

(a) Within one year after the effective date of this AD: Perform a general visual inspection of the power feeder cable installation on the left and right sides of the aft cargo compartment between stations Y=1344.000 and Y=1364.000 for minimum clearance between the power feeder cables and the adjacent structure, and for grommet installation, in accordance with McDonnell Douglas Alert Service Bulletin MD90-24A025, Revision 01, dated January 11, 2000. If the inspection reveals that adequate clearance exists and a grommet is installed, no further action is required.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: Inspections and repairs accomplished prior to the effective date of this AD in accordance with McDonnell Douglas Service Bulletin MD90-24-025, dated July 31, 1996, are considered acceptable for compliance with the applicable actions specified in this amendment.

Corrective Action

(b) Subsequent to the inspection required by paragraph (a) of this AD, and prior to further flight, perform the actions described in paragraph (b)(1), (b)(2), (b)(3), or (b)(4) of this AD, as applicable, in accordance with McDonnell Douglas Alert Service Bulletin MD90-24A025, Revision 01, dated January 11, 2000.

(1) If minimum clearance exists between the power feeder cables and the adjacent structure, and if a grommet is not installed: Install a grommet.

(2) If minimum clearance does not exist and if a grommet is installed: Conduct a general visual inspection of the power feeder cables for damage, repair any damaged cable, and re-position the cables inboard to achieve minimum clearance.

(3) If minimum clearance does not exist and if a grommet is not installed: Conduct a general visual inspection of the power feeder cables for damage, repair any damaged cable, install a grommet, and re-position the cables inboard to achieve minimum clearance.

(4) If minimum clearance cannot be achieved or a “hard-riding” condition exists: Conduct a general visual inspection of the power feeder cables for damage; repair any damaged cable; fabricate trim; install a grommet, if necessary; position power feeder cables to achieve the minimum clearance; and modify the retainer assembly of the cabin sidewall grill.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin MD90-24A025, Revision 01, dated January 11, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on May 7, 2002.

Issued in Renton, Washington, on March 21, 2002.
Kalene C. Yanamura,
Acting Manager, Transport Airplane Directorate, Aircraft Certification Service.

[FR Doc. 02-7412 Filed 4-1-02; 8:45 am]

BILLING CODE 4910-13-P